SECURITIES AND EXCHANGE COMMISSION

[SEC File No. 270-317, OMB Control No. 3235-0360]

Submission for OMB Review; Comment Request

Upon Written Request Copies Available From: Securities and Exchange Commission, Office of FOIA Services, 100 F Street NE, Washington, DC 20549-02736

Extension:

Form N-17f-2

Notice is hereby given that, pursuant to the Paperwork Reduction Act of 1995 (44 U.S.C. 350l et seq.), the Securities and Exchange Commission (the “Commission”) has submitted to the Office of Management and Budget a request for extension of the previously approved collection of information discussed below.

Form N-17f-2 (17 CFR 274.220) under the Investment Company Act is entitled “Certificate of Accounting of Securities and Similar Investments in the Custody of Management Investment Companies.” Form N-17f-2 is the cover sheet for the accountant examination certificates filed under rule 17f-2 (17 CFR 270.17f-2) by registered management investment companies (“funds”) maintaining custody of securities or other investments. Form N-17f-2 facilitates the filing of the accountant's examination certificates prepared under rule 17f-2. The use of the form allows the certificates to be filed electronically, and increases the accessibility of the examination certificates to both the Commission's examination staff and interested investors by ensuring that the certificates are filed under the proper Commission file number and the correct name of a fund.

Commission staff estimates that it takes: (i) On average 1.25 hours of fund accounting personnel at a total cost of $272 to prepare each Form N-17f-2; ¹ and (ii) .75 hours of administrative assistant time at a total cost of $61 to file the Form N-17f-2 with the Commission.² Approximately 201 funds currently file Form N-17f-2 with the Commission. Commission staff estimates that on average each fund files Form N-17f-2 three times annually for a total annual hourly burden per fund of approximately 6 hours at a total cost of $1,002. The total annual hour burden for Form N-17f-2 is therefore estimated to be approximately 1,206 hours with a total cost of approximately $201,402.³ Form N-17f-2 does not impose any paperwork-related cost burden other than this internal hour cost.

¹ This estimate is based on the following calculation: 1.25 × $218 (fund senior accountant's hourly rate) = $272.

² This estimate is based on the following calculation: .75 × $82 (administrative assistant hourly rate) = $61.

³ This estimate is based on the following calculation: 201 funds × $1,002 (total annual cost per fund) = $201,402.

The estimate of average burden hours is made solely for the purposes of the Paperwork Reduction Act, and is not derived from a comprehensive or even a representative survey or study of the costs of Commission rules and forms. Complying with the collections of information required by Form N-17f-2 is mandatory for those funds that maintain custody of their own assets. Responses will not be kept confidential. An agency may not conduct or sponsor, and a person is not required to respond to, a collection of information unless it displays a currently valid control number.

The public may view background documentation for this information collection at the following website: www.reginfo.gov. Find this particular information collection by selecting “Currently under 30-day Review—Open for Public Comments” or by using the search function. Written comments and recommendations for the proposed information collection should be sent within 30 days of publication of this notice to (i) www.reginfo.gov/public/do/PRAMain and (ii) David Bottom, Director/Chief Information Officer, Securities and Exchange Commission, c/o Cynthia Roscoe, 100 F Street NE, Washington, DC 20549, or by sending an email to: PRA_Mailbox@sec.gov.

Dated: December 4, 2020.
J. Matthew DeLesDernier,
Assistant Secretary.

[FR Doc. 2020-27028 Filed 12-8-20; 8:45 am]

BILLING CODE 8011-01-P